DEPARTMENT OF HOMELAND SECURITY

Coast Guard

[CGD01-04-125]

Announcement of Public Scoping Meetings for Environmental Impact Statement Preparation in Conjunction With Proposed Replacement of the Goethals Bridge

AGENCY: Coast Guard, DHS.

ACTION: Notice of public scoping meetings.

SUMMARY: The U.S. Coast Guard, as the federal lead agency, and in cooperation with the Port Authority of New York and New Jersey (PANY&NJ), hereby advises of the dates for public scoping meetings to be held in conjunction with preparation of an Environmental Impact Statement for the replacement of the Goethals Bridge. A Notice of Intent published in the Federal Register on August 10, 2004, announced that hearings would be held; however, dates for the scoping meetings were not finalized at that time. Public scoping meetings will be held in Staten Island, New York and Elizabeth, New Jersey, on October 5 and 6, 2004, respectively.

DATES: Public scoping meetings will be held in Staten Island, New York and Elizabeth, New Jersey, on October 5 and 6, 2004, respectively.

ADDRESSES: The October 5, 2004, meetings will be held at the Staten Island Hotel, Harbor Room and Ballroom, located at 1415 Richmond Avenue, Staten Island, New York 10314. The October 6, 2004, meetings will be held at the City of Elizabeth City Hall, in the Council Chambers on the Third Floor, located at 50 Winfield Scott Plaza, Elizabeth, New Jersey 07201.

FOR FURTHER INFORMATION CONTACT: Mr. Gary Kassof, Bridge Program Manager at Commander (obr), First Coast Guard District Battery Building, One South Street, New York, NY 10004-1466 or at (212) 668-7021.

SUPPLEMENTARY INFORMATION: This notice of public scoping meetings is published in accordance with the regulations of the Council on Environmental Quality at 40 CFR 1506.6.

The U.S. Coast Guard, as the lead Federal agency for the oversight of the Environmental Impact Statement to be prepared for the Goethals Bridge replacement project, is teamed with the Port Authority of New York and New Jersey (PANY&NJ). The U.S. Coast Guard, with the cooperation of PANY&NJ, will hold public scoping meetings regarding this project. These meetings seek to involve the public in preparing and implementing NEPA procedures.

Meetings will be held on October 5 and 6, 2004, with two separate sessions each day. A formal presentation will be given during each of the sessions. The schedule and location is as follows. On October 5, 2004, the meetings will be held at the Staten Island Hotel, Harbor Room and Ballroom, located at 1415 Richmond Avenue, Staten Island, New York 10314. The two sessions include an afternoon session and an evening session. The afternoon session will start at 2 p.m. and end at 5 p.m., with a formal presentation at 2:30 p.m. The evening session will begin at 5:30 p.m. and end at 8:30 p.m. with formal presentation at 6 p.m.

On October 6, 2004, the meetings will be held at the City of Elizabeth City Hall, in the Council Chambers on the third Floor, located at 50 Winfield Scott Plaza, Elizabeth, New Jersey 07201. The two sessions include an afternoon session and an evening session. The afternoon session will start at 2 p.m. and end at 5 p.m., with a formal presentation at 2:30 p.m. The evening session will begin at 5:30 p.m. and end at 8:30 p.m. with formal presentation at 6 p.m.

Dated: September 17, 2004.
David P. Pekoske,
Rear Admiral, U.S. Coast Guard, Commander, First Coast Guard District.

[FR Doc. 04-22140 Filed 9-30-04; 8:45 am]

BILLING CODE 4910-15-P